DEPARTMENT OF THE INTERIOR

Information Collection Submission to OMB for Renewal and Approval of New Forms Under Paperwork Reduction Act

AGENCY: Bureau of Indian Affairs, Interior.

ACTION: Notice.

SUMMARY: In compliance with the Paperwork Reduction Act of 1995, this notice announces that an information collection request was submitted to the Office of Management and Budget's (OMB) Office of Information and Regulatory Affairs for review and renewal. We have also requested approval for new forms that will be mandatory October 2003.

DATES: Written comments must be received by June 30, 2003.

ADDRESSES: You may submit comments to the Desk Officer for Department of the Interior, by facsimile at (202) 395-5806 or you may e-mail her at Ruth_Solomon@omb.gov.

Send a copy of your comments to Lynn Forcia, Office of Economic Development, Bureau of Indian Affairs, 1849 C Street, NW., Mail Stop 2412-MIB, Washington, DC 20240.

FOR FURTHER INFORMATION CONTACT: Requests for additional information or additional copies of the information collection instructions and the November 27, 2002, Federal Register should be directed to Lynn Forcia, Bureau of Indian Affairs, Department of the Interior, 1849 C Street, NW., MS 2412-MIB, Washington, DC 20240; Telephone 202-219-5270. (This is not a toll-free number).

SUPPLEMENTARY INFORMATION: The information collection for A Reporting System for the Public Law 102-477 Demonstration Project needs renewal. The 60-day notice requesting comments on OMB Control Number 1076-0135, “Public Law 102-477 Reporting,” was published in the Federal Register on November 27, 2002 (67 FR 70963). We have held meetings with both tribal and Federal partners regarding the existing Public Law 102-477 tribal report forms. We have also shared the changes mandated by the government-wide employment and training OMB requirements with Federal partners and tribal representatives. Based upon our requests for input and recommendations, we are requesting two actions: (1) That tribes be able to use existing forms which will be gradually phased out as tribes are able to use new forms, but no later than September 30, 2003, and (2) we are requesting approval of the revised forms which will become effective October 1, 2003, at the latest. Tribes may adopt the new revised forms as they have made the necessary alterations to their computer programs and data collection forms so that they may adequately collect and accurately report the required data.

Abstract: The information collection is needed to document satisfactory compliance with statutory, regulatory and OMB requirements of the various integrated programs. Public Law 102-477 authorizes tribal governments to integrate Federally-funded employment, training and related services programs into a single, coordinated, comprehensive service delivery plan. Funding agencies include the Department of the Interior, Department of Labor, and the Department of Health and Human Services. The Bureau of Indian Affairs is statutorily required to serve as the lead agency. Section 11 of this Act requires that the Secretary of the Interior make available a single universal report format which shall be used by a tribal government to report on integrated activities and expenditures undertaken. The Bureau of Indian Affairs shares the information collected from these reports with the Department of Labor and the Department of Health and Human Services.

Method of Collection

Existing Forms: Currently, tribal governments voluntarily participating in Public Law 102-477 are required to annually complete two single page, one-sided report forms and one narrative report, which includes four pages of instructions. They replace 166 pages of instructions and applications representing three different agencies and twelve different funded but related programs. We estimate a 95 percent reduction in reporting which is consistent with the Paperwork Reduction Act and goals of the National Performance Review. The statistical and narrative report will be used to demonstrate how well a plan was executed in comparison to proposed goals. The financial status report will be used to track cash flow, and will allow an analysis of activities versus expenditures and expenditures to approved budget. It is a slightly modified SF-269-A (short form). We are requesting approval of these existing forms for use through September 30, 2003.

Revised Forms: These forms have been developed incorporating comments from the Department of Health and Human Services and the Department of Labor which provide program funds to tribes for portions of Public Law 102-477. The revised forms have also incorporated many of the comments from tribal grantees and other interested parties.

The revised forms include a one page financial form which is a slightly modified SF-269-A (short form). The financial report also now adds one additional financial page at the request of the Department of Health and Human Services, Temporary Assistance for Needy Families (TANF) report. The form is accompanied by four pages of instructions. The additional form and instructions are only to be completed by those tribes receiving TANF funds under Public Law 102-477. A portion of the report is optional as requested by DHHS. Secondly, the revised forms includes a revised and expanded program statistical report.

These report forms and narrative are limited but should satisfy the Department of Health and Human Services, Department of Labor and the Department of the Interior. Both the existing and revised forms reduce the burden on tribal governments by consolidating data collection for employment, training, education, child care and related service programs. The reports are due annually. These forms have been developed within a partnership between tribes and representatives of all three Federal agencies to standardize terms and definitions, eliminate duplication and reduce frequency of collection.

Action: Renewal of existing forms, and delayed approval of revised forms for FY 2004.

Collection: OMB Control # 1076-0135, A Reporting System for Public Law 102-477 Demonstration Project.

Respondents: Tribes participating in Public Law 102-477 will report annually. Currently there are 49 grantees representing 240 tribes participating in the program.

Burden: The hourly burden for present forms is 10 hours per respondent; 10 hours × 49 equals 490 annual burden hours. This is an increase of 12 more tribes in the program and represents an adjustment of 120 hours. Because we will use the estimate for the new forms which will require 16 hours per year to complete for each grantee, we are adding 294 hours as a program change in burden hours. This represents an overall increase in burden hours of 414 hours.

Public Comments and Responses

All comments were considered in preparing BIA's response. The comments received relating to the information collection and OMB's responses are summarized below:

As we stated in the Federal Register 60 day proposed collection the Department of Health and Human Services (DHHS) wanted an additional report added to the financial report, including four pages of instructions. A portion of the financial report is optional for tribes to complete.

DHHS has also requested additional data on the program statistical report to include the type of child care providers being used. We are also proposing to add the requested OMB required government-wide common performance measures for all Federal employment and training programs to the program statistical report which includes: Attainment of a job, attainment of a certificate or degree by program participants, earnings gains, and sufficient information to determine total program cost per placement in a job for adults. We have also added data collection for gains in literacy and numeracy for the youth program. Based upon our experience implementing Public Law 102-477, the Bureau of Indian Affairs proposes to expand and clarify the narrative instructions as further guidance to tribes in the completion of the narrative. Unmet needs, barriers to employment being faced and the necessity of reporting data on performance standards is provided.

The Public Law 102-477 revised forms and procedures have been controversial since November of 2000. We have attempted to incorporate many of the comments received and believe the proposed document reflects negotiations among all parties involved.

OMB is required to make a decision concerning this information collection request between 30 and 60 days after publication of this document in the Federal Register. Therefore, a comment will receive the best consideration by OMB if it is submitted early during this comment period. Written comments should be sent as directed in the ADDRESSES section.

You are reminded that an agency may not request or sponsor a collection of information unless OMB has approved the collection; you are not required to answer a collection of information that is not approved, and you will not be harmed by your refusal.

Dated: April 17, 2003.
Aurene M. Martin,
Assistant Secretary—Indian Affairs.

[FR Doc. 03-13573 Filed 5-29-03; 8:45 am]

BILLING CODE 4310-XN-P